DEPARTMENT OF AGRICULTURE

Change of Commodity Reporting and Analysis on Cocoa and Honey

AGENCY: Foreign Agricultural Service, USDA.

ACTION: Notice of change of commodity reporting and analysis on cocoa and honey.

SUMMARY: Beginning with the June, 2000, Tropical Products: World Markets and Trade Circular and the November, 2000, Sugar: World Markets and Trade Circular, commodity and country analysis and statistical tables for cocoa and honey will be discontinued. This decision is due to declining Foreign Agricultural Service (FAS) budget resources and the need to more strategically target remaining resources in support of the agency's primary mission to facilitate the expansion of export opportunities for U.S.-produced agricultural commodities. The availability of similar production and trade information from other sources was also a factor behind the decision. FAS expects to continue to receive voluntary reporting on cocoa production and trade from an abbreviated number of countries and these will continue to be posted on the FAS Home page upon receipt: http://www.fas.usda.gov.

FOR FURTHER INFORMATION CONTACT: Nancy Hirschhorn, Horticultural and Tropical Products Division, Foreign Agricultural Service, U.S. Department of Agriculture, Washington, DC 20250-1049 or telephone at (202) 720-2974.

Issued at Washington, DC, the 24th day of April, 2000.
Richard Fritz,
Administrator, Foreign Agricultural Service.

[FR Doc. 00-10810 Filed 4-28-00; 8:45 am]

BILLING CODE 3410-10-M